DEPARTMENT OF TRANSPORTATION

Office of the Secretary

Notice of Applications for Certificates of Public Convenience and Necessity and Foreign Air Carrier Permits Filed Under Subpart B (Formerly Subpart Q) During the Week Ending April 27, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-27060.

Date Filed: April 24, 2007.

Due Date for Answers, Conforming Applications, or Motion to Modify Scope:May 15, 2007

Description: Application of Zoom Airlines Limited, amending its exemption and foreign air carrier permit to add a request for authority to serve Bermuda (“BRA”) as an intermediate point on its proposed scheduled service between London Gatwick Airport (“LGW”) and John F. Kennedy International Airport (“JFK”).

Docket Number: OST-2007-28046.

Date Filed: April 24, 2007.

Due Date for Answers, Conforming Applications, or Motion to Modify Scope:May 15, 2007

Description: Application of Air Executive Charter GmbH (“Air Executive Charter”), requesting an exemption and a foreign air carrier permit authorizing Air Executive Charter to provide the following service using small aircraft: (a) Charter foreign air transportation of persons, property and mail between any point or points in Germany and any point or points in the United States; and between any point or points in the United States and any point or points in a third country or countries, provided that such service constitutes part of a continuous operation, with or without a change of aircraft, that includes air service to Germany for the purpose of carrying local traffic between Germany and the United States; (b) effective March 30, 2008, charter foreign air transportation of persons, property and mail from points behind EU Member States, via the EU Member States and intermediate points to any point or points in the United States and beyond; (c) effective March 30, 2008, charter foreign air transportation of persons, property and mail between any point or points in the United States and any point or points in the European Common Aviation Area (“ECAA”); and (d) other charters between non-EU/ECAA third countries and the United States.

Docket Number: OST-2007-28073.

Date Filed: April 27, 2007.

Due Date for Answers, Conforming Applications, or Motion to Modify Scope:May 18, 2007.

Description: Application of Star Air A/S, requesting an exemption and a foreign air carrier permit to provide charter foreign air transportation of property and mail on any and all routes authorized pursuant to the Agreement between the Government of the United States of America and the Government of Denmark Relating to Air Transport Services (“U.S.-Denmark Open Skies Agreement”).

Docket Number: OST-2007-28087.

Date Filed: April 27, 2007.

Due Date for Answers, Conforming Applications, or Motion to Modify Scope:May 18, 2007.

Description:Application of ABX Air, Inc. (“ABX”), requesting the Department of Transportation disclaim jurisdiction over the transfer of the certificate of public convenience and necessity and other operating authority issued to ABX to facilitate the formation by ABX of a holding company.

Renee V. Wright,
Program Manager, Docket Operations, Federal Register Liaison.

[FR Doc. E7-9080 Filed 5-10-07; 8:45 am]

BILLING CODE 4910-9X-P